DEPARTMENT OF THE INTERIOR

Bureau of Ocean Energy Management

[Docket No. BOEM-2015-0075; MMAA104000]

Outer Continental Shelf, Region-Wide Gulf of Mexico, Oil and Gas Lease Sales for Years 2017-2022

AGENCY: Bureau of Ocean Energy Management (BOEM), Interior.

ACTION: Call for Information and Nominations.

SUMMARY: This Call for Information and Nominations (Call) is the initial step in a multi-sale process covering all proposed lease sales in the Gulf of Mexico (GOM) comprised of the Western, Central, and Eastern Gulf of Mexico Planning Areas (WPA, CPA, and EPA, respectively), proposed for inclusion in the Draft Proposed Five Year Outer Continental Shelf (OCS) Oil and Gas Leasing Program for 2017-2022 (2017-2022 Five Year Program). Ten proposed lease sales are specifically covered by this Call: Five region-wide GOM sales tentatively scheduled in March of each year and five region-wide GOM sales tentatively scheduled in August of each year. This call for region-wide GOM sales will not prevent Bureau of Ocean Energy Management (BOEM) from deciding during the pre-sale process to hold separate sales in individual planning areas without issuing another call. BOEM announced in a Notice of Intent (NOI, 80 FR 23818, April 29, 2015) that it is preparing a multi-sale Environmental Impact Statement (Multi-sale EIS) covering the same 10 lease sales in the proposed GOM sale area, in compliance with the National Environmental Policy Act (NEPA). For each of the 10 proposed individual lease sales associated with this Call, BOEM will continue to comply with NEPA, the Outer Continental Shelf Lands Act (OCSLA), the Coastal Zone Management Act (CZMA) and other applicable law.

DATES: Nominations and comments must be received at the address specified below no later than October 5, 2015 in the Federal Register.

FOR FURTHER INFORMATION CONTACT: Mr. Jaron Ming, Bureau of Ocean Energy Management, Gulf of Mexico OCS Region, 1201 Elmwood Park Boulevard, New Orleans, Louisiana 70123-2394, telephone (504) 736-2537.

SUPPLEMENTARY INFORMATION: On January 27, 2015, the Department of the Interior released the Draft Proposed 2017-2022 Five Year Program. The Draft Proposed 2017-2022 Five Year Program was made available for public comment through March 30, 2015. BOEM also published an NOI to prepare a Programmatic Environmental Impact Statement (PEIS) for the 2017-2022 Five Year Program on January 29, 2015. Scoping for the PEIS closed on March 30, 2015. Information on the development of the proposed 2017-2022 Five Year Program and PEIS are available on BOEM's Web site at: http://www.boem.gov/Five-Year-Program-2017-2022/.

Because the first Gulf sale is proposed to occur early in the Program and due to the long lead times needed to prepare for proposed oil and gas lease sales, the development of the 2017-2022 Five Year Program and the administrative and environmental analysis processes for individual Gulf of Mexico lease sales must occur simultaneously and in close coordination. This Call covers only the region-wide lease sales in the GOM that are proposed for inclusion in the Draft Proposed 2017-2022 Five Year Program. The Multi-sale EIS being prepared by BOEM will analyze a large region-wide area in the GOM that will include available blocks in the Western, Central, and Eastern Planning Areas not subject to Congressional moratorium (collectively, the “proposed GOM sale area”). The Multi-sale EIS will also include analysis of potential alternatives to the region-wide lease sale proposal.

Call for Information and Nominations

1. Authority

This Call is published pursuant to OCSLA, as amended (43 U.S.C. 1331 et seq.), and its implementing regulations (30 CFR part 556).

2. Purpose of Call

The purpose of the Call is to gather information for the following tentatively scheduled OCS region-wide GOM sales. The Draft Proposed 2017-2022 Five Year Program has scheduled the following proposed lease sales, which would be region-wide and include all unleased acreage in the GOM not currently subject to Congressional moratorium.

Lease sale | Sale year
Sale 249 | August 2017.
Sale 250 | March 2018.
Sale 251 | August 2018.
Sale 252 | March 2019.
Sale 253 | August 2019.
Sale 254 | March 2020.
Sale 256 | August 2020.
Sale 257 | March 2021.
Sale 259 | August 2021.
Sale 261 | March 2022.

BOEM seeks information and nominations on oil and gas leasing, exploration, development, and production within the proposed GOM sale area from all interested parties. This early planning and consultation step ensures that public interests and concerns are communicated to the Department of the Interior for its future decisions in the leasing process, pursuant to section 19 of OCSLA (43 U.S.C. 1344) and its implementing regulations (30 CFR part 556).

BOEM requests responses regarding proposed sales in the region-wide GOM sale area. Accordingly, this multi-sale process addresses decisions for all 10 region-wide lease sales in the proposed GOM sale area.

Pursuant to section 18 of OCSLA (43 U.S.C. 1344), the Secretary of the Interior (Secretary) is separately developing the 2017-2022 Five Year Program; therefore, this Call should not be construed as a prejudgment or decision by the Secretary concerning any area to be made available for leasing under the 2017-2022 Five Year Program.

This Call does not indicate a preliminary decision to lease in the area described below. Final delineation of the area for possible leasing will be made later, in compliance with applicable laws (e.g., NEPA, OCSLA, and CZMA) and established departmental procedures.

3. Description of Area

The proposed GOM sale area of this Call includes the entire CPA, WPA, and EPA, except for those areas currently subject to Congressional moratorium.

The CPA is bound on the north by the Federal-State boundary offshore Louisiana, Mississippi, and Alabama. The eastern boundary of the CPA begins at the offshore boundary between Alabama and Florida and proceeds southeasterly to 26.19°N. latitude, thence southwesterly to 25.6°N. latitude. The western boundary of the CPA begins at the offshore boundary between Texas and Louisiana and proceeds southeasterly to 28.43° N. latitude, thence south-southwesterly to 27.49° N. latitude, thence south-southeasterly to 25.80° N. latitude. The CPA is bounded on the south by the maritime boundary with Mexico as established by the Treaty between the Government of the United States of America and the Government of the United Mexican States on the Delimitation of the Continental Shelf in the Western Gulf of Mexico beyond 200 Nautical Miles, which took effect in January 2001, and by the limit of the U.S. Exclusive Economic Zone in the area east of the continental shelf boundary with Mexico. The CPA includes a small section subject to Congressional moratorium, which currently runs until June 30, 2022, as established by the Gulf of Mexico Energy Security Act of 2006 (GOMESA, Pub. L. 109-432). [This area of the CPA subject to Congressional moratorium is bounded by the area east of the Military Mission Line (86° 41′ west longitude), and the area within the CPA that is within 100 miles of Florida. A map of the moratoria can be found here: http://www.boem.gov/Oil-and-Gas-Energy-Program/Leasing/Areas-Under-Moratoria.aspx.] The CPA available for nominations and comments at this time consists of approximately 66.45 million acres, of which approximately 45.28 million acres are currently unleased.

The WPA is bound on the west and north by the Federal-State boundary offshore Texas. The eastern boundary begins at the offshore boundary between Texas and Louisiana and proceeds southeasterly to 28.43° N. latitude, thence south-southwesterly to 27.49° N. latitude, thence south-southeasterly to 25.80° N. latitude. The WPA is bounded on the south by the maritime boundary with Mexico as established by the Treaty between the Government of the United States of America and the Government of the United Mexican States on the Delimitation of the Continental Shelf in the Western Gulf of Mexico beyond 200 Nautical Miles, which took effect in January 2001. The WPA available for nominations and comments at this time consists of approximately 28.58 million acres, of which approximately 21.94 million acres are currently unleased.

The proposed GOM sale area includes a small section of the EPA not subject to Congressional moratorium, which currently runs until June 30, 2022, as established by GOMESA. The portion of the EPA not subject to Congressional moratorium is bound on the east by the Military Mission Line (86°41′ W. longitude), on the south by the limits of the U.S. Exclusive Economic Zone adjacent to the area known as the northern portion of the Eastern Gap, and on the west by the CPA. The EPA available for nominations and comments at this time consists of approximately 657,905 acres, of which approximately 465,201 acres are currently unleased.

A standard Call map, depicting the proposed GOM sale area on a block-by-block basis, is available from the Bureau of Ocean Energy Management, Public Information Office (MS 5034), 1201 Elmwood Park Boulevard, New Orleans, Louisiana 70123-2394, or by telephone at (800) 200-GULF. The map also is available on the BOEM Web site at http://boem.gov/2017-2022/Call-for-Information/.

4. Areas Excluded From Call

The entire proposed GOM sale area will be considered for possible leasing, except for those areas currently subject to Presidential withdrawal or Congressional moratorium.

5. Nominations and Public Comment Procedures

BOEM will accept comments from the public in one of two formats: via the Federal internet commenting system at regulations.gov or via regular mail. BOEM's preference is to receive comments via the internet commenting system at regulations.gov. Indications of interest and comments must be received no later than October 5, 2015. BOEM requests that comments be submitted using one of these formats, and include full names and addresses of the individual submitting the comments or indication of interest.

In order to ensure security and confidentiality of proprietary information to the maximum extent possible, BOEM requests that indications of interest and other proprietary information be sent by regular mail only.

Submitting Comments via Internet

Comments may be submitted via the Federal eRulemaking Portal at: http://www.regulations.gov. BOEM requests that commenters follow these instructions to submit their comments via this Web site:

(1) In the search tab on the main page, search for BOEM-2015-0075.

(2) Locate the document, then click the “Submit a Comment” link either on the Search Results page or the Document Details page. This will display the Web comment form.

(3) Enter the submitter information and type the comment on the Web form. Attach any additional files (up to 10MB). (Please do not provide proprietary or confidential comments or indications of interest via the Internet. Proprietary or confidential comments or indications of interest should be sent via the mail only, as described below.)

(4) After typing the comment, click the “Preview Comment” link to review. Once satisfied with the comment, click the “Submit” button to send the comment.

Information on using www.regulations.gov, including instructions for accessing documents, submitting comments, and viewing the docket after the close of the comment period, is available through the site's “User Tips” link.

Submitting Comments or Indications of Interest via the Mail

Comments and indications of interest submitted through the mail should be in envelopes labeled “Nominations for Proposed 2017-2022 Lease Sales in the Gulf of Mexico” or “Comments on the Call for Information and Nominations for Proposed 2017-2022 Lease Sales in the Gulf of Mexico” and mailed to the Bureau of Ocean Energy Management, Gulf of Mexico OCS Region, Office of Leasing and Plans, (Attention: Ms. Ann H. Glazner), 1201 Elmwood Park Boulevard (Mail Stop 5422), New Orleans, Louisiana 70123-2394.

Public Disclosure of Comments and Indications of Interest

BOEM will not consider anonymous comments. BOEM's practice is to make comments, including the names and addresses of individuals, available for public review. Before including your address, phone number, email address, or other personal identifying information in your comment, please be advised that your entire comment, including your personal identifying information, may be made publicly available at any time. While you can ask us in your comment to withhold from public review your personal identifying information, we cannot guarantee that we will be able to do so. BOEM will make available for public inspection, in their entirety, all comments submitted by organizations and businesses, or by individuals identifying themselves as representatives of organizations or businesses.

Individual indications of interest in areas for mineral leasing are considered to be privileged and proprietary information. The names of persons or entities submitting comments or indicating interest will be treated by BOEM as information that may be released to the public. Comments will likewise be released, except that actual individual indications of interest in areas for mineral leasing, trade secrets, commercial or financial information will be treated as confidential and proprietary information that is privileged and will not be released to the public.

Additional Information for Submitting Comments and Indications of Interest

The Call map, provided on BOEM's Web site at http://boem.gov/2017-2022/Call-for-Information/, delineates the proposed GOM sale area, all of which BOEM has identified as having potential for the discovery of oil and gas accumulations. Respondents are requested to indicate interest in, and comment on, any or all of the Federal acreage within the boundaries of the proposed GOM sale area that they wish to have included in each of the proposed lease sales in the proposed GOM sale area.

Respondents indicating their interest should outline the areas of interest along block lines and rank the areas in which they have expressed interest according to their interest priority (e.g., priority 1 [high], 2 [medium], or 3 [low]), specifically indicating blocks by priority. Areas where interest has been indicated, but on which respondents have not indicated priorities, will be considered priority 3 (low).

Respondents also may nominate a list of blocks identified by Official Protraction Diagram (OPD) and Leasing Map designations to ensure correct interpretation of those nominations. A CD-ROM containing all the GOM leasing maps and OPDs is available from the BOEM Gulf of Mexico OCS Region Public Information Office. These GOM leasing maps and OPDs also are available for free online at http://www.boem.gov/Official-Protraction-Diagrams/. Also, BOEM seeks comments from all interested parties about particular geological, environmental (including natural disasters), biological, archaeological, and socioeconomic conditions or conflicts, or other information that could affect the potential leasing and development of particular areas. Additionally, BOEM seeks comments about possible conflicts between future OCS oil and gas activities and State Coastal Management Programs (CMPs) that may result from the proposed sales. These comments should identify specific CMP policies of concern, the nature of the conflict foreseen, and the proposed means to avoid or mitigate potential conflicts. Comments may refer to both broad areas or to particular blocks.

6. Information From Call

Information submitted in response to this Call will be used for several purposes, including identifying and prioritizing areas with potential for oil and gas development, as well as determining possible environmental effects to be further evaluated and potential conflicts in the Call area. BOEM will analyze the areas nominated in the proposed sales, their respective rankings, and the comments received to make a preliminary determination of the potential advantages and disadvantages of oil and gas exploration and development to the region and the Nation. Comments collected may be used to develop proposed actions and alternatives in the EIS process, to develop lease terms and conditions to ensure safe offshore operations, and to assess potential conflicts between offshore oil and gas activities and a State's CMP.

7. Existing Information

BOEM routinely assesses the status of information acquisition efforts and the quality of the information base for potential decisions on tentatively scheduled lease sales. As a result of this ongoing assessment, BOEM has determined that the status of existing and extensive data available for planning, analysis, and decision making is adequate.

An extensive environmental studies program has been underway in the GOM since 1973. The emphasis, including continuing studies, has been on environmental characterization of biologically sensitive habitats, physical oceanography, ocean-circulation modeling, and ecological effects of oil and gas activities.

A complete listing of available study reports and information for ordering copies can be obtained from the Public Information Office referenced above. The reports also may be ordered, for a fee, from the U.S. Department of Commerce, National Technical Information Service, 5301 Shawnee Road, Alexandria, Virginia 22312, or by telephone at (703) 605-6000 or (800) 553-6847. In addition, a program status report for continuing studies in this area can be obtained from the Chief, Environmental Sciences Section, Bureau of Ocean Energy Management, Gulf of Mexico OCS Region, 1201 Elmwood Park Boulevard, New Orleans, Louisiana 70123-2394, by telephone at (504) 736-2752, or via the BOEM Web site at http://www.boem.gov/Studies/. Finally, this information can be found on BOEM's Environmental Studies Program Information System (ESPIS) at http://www.boem.gov/Environmental-Studies-EnvData/.

8. Tentative Schedule

Milestones for proposed 2017-2022 region-wide GOM area identification | Scheduled for
Call for Information and Nominations | September 2015.
Comments received on Call | September-October 2015.
Area Identification Decision | Fall 2015.

Dated: September 1, 2015.
Abigail Ross Hopper,
Director, Bureau of Ocean Energy Management.

[FR Doc. 2015-22073 Filed 9-3-15; 8:45 am]

BILLING CODE 4310-MR-P